DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending March 31, 2025. For purposes of this listing, long-term residents, as defined in section 877(e)(2), are treated as if they were citizens of the United States who lost citizenship.

Last name | First name | Middle name/initials
ABELS | STEPHANIE | BRIGITTE ELISABETH
ABRAHAMS | REBECCA | ELECTA MARGARET
ABRAMS | BRENDAN | BEAU
ADAMS | ERIN | ELIZABETH
ADDERLEY | AMY | STONE
ADLER | ELCHANAN | NACHMAN
ADRIAN | KRISTIN | JENNIFER
AGALIDIS | MARIA
AGAPITOS | KATHERINE | MICHELLE
AGOSTO | SAVERIO
AGOSTO | CHRISTINE | A.
AHMED | AKTHER | SALHUDDIN
ALEXANDRE | EMILIE | BRIGITTE
ALLEN | DANA | LYNNE
ALLEN | COURTNEY | ELIZABETH
ALLEN | LAURA | REGINA
AL-SHAHRANI | MOHNNED | SAEED
ALSTER | FRANCESCA | KATE EMILY
AMIRI | SAED | ISMAIL
AMLAND | RICHARD | PHILLIP
AMMANN | SOPHIE | CHARLOTTE
ANDERSEN | AXEL | HOLME
ANDERSON | GEORGE
ANDERSON | VIRGINIA | KAY
ANDERSON | REBECCA | TABITHA
ANDERSON | CLAIRE | L.
ANDREWS | RUTH | ALISON
ANGELERI | ROMINA
ANNAN-VEITCH | SAMUEL | GEORGE
ARAFEH | DANIA | YASIN
ARAM | ELIZABETH
ARAUJO | PASCAL
ARBID | MELANIE
ARBULU | FRANCISCO | JOSE
ARGENAL-ROMAN | MINERVA
ARIK | BRIDGET | MARIE
ARMSTRONG-CROUX | ELIZABETH | HAMILTON
ASHANTI | MICHAEL | KUNIN
ATKIN-BRENNINKMEYER | EMMA | HELEN BRIGIT GABRIELLE
ATKINS | CHRISTOPHER | HENRY EDWARD
ATKINS WITHERS | NICOLE | LOUISE
ATKINSON | AGNES | JOY
ATKINSON | SARAH | JANE
AUGE | CYRIL | J.
AVERBUCH | SHEILA
AYOUBI | KHALEEL | GUY
BACLIG | LEAH | MARIE
BACSFALVI | ROBINA | LESLEY ENIKO
BADOU | JOHANNES | G.
BAGGER | ASTRID | ELIZABETH
BAGGER | ERIK | SPENCER
BAILEY | DANIEL
BAILEY | MICHAEL | JAMES
BAILLIE | MORGAN | DALE
BALFOUR | IAN | C.
BALLENGER | AARON | PATRICK
BALZARINI | ERIC | DAVID
BANDYOPADHYAY | ARUNIMA
BANKSON | SAVANNAH | JADE
BARCHAM | KATHERINE | PAMELA GORDON
BARIR | CHEN | NECHEMIA
BARTON | ANNA | MARIA
BAR-ZEEV | EITAN
BASEL | SONJA | ASTRID
BATT | HARRY | DORRINGTON
BATTINO | JOSHUA | PAUL
BATTISTA | ALEXANDRA
BAUMGARTNER | LINDA | ELIZABETH
BAY | DENNIS | DONGWON
BAZZOUI | REEM | ULLA
BEAN | JOHN | M.
BEAULIEU | JOSEPH | MAURICE MARC-ANDRE
BECK | RACHEL | MARGARET
BEHRENS | REIMER | M.
BELAND | DENNIS | M.
BELL | JUSTIN | DANIEL
BELLOTTI | JEREMY | AARON
BENDER | CHRISTIAN
BENNETT | CHRISTINE | IHOE
BENNETT | NIGEL | W.
BENNETT-EVERDING | BABETTE | ANNE
BENS | DONALD | ALAN
BENWAY | TIFFANIE | A.
BEN-YOSEF | LEORA
BERGE | KAJ
BERGER | SHARA-LEE | RACHELLE
BERGER | THOMAS | PATRICK
BERGSTROM | WILLIAM | CARL AXEL
BERINGER | KATHERINE | RITLI
BERLANCIC | KRISTI | SIMONE
BERNTSSON | KENT | OLOF NIKLAS
BERRINGER | JAY | DAVID
BERRY | PAMELA | A.
BESTALL | KIERAN | ALEXANDER
BHATTARAI | YUMI
BIBLE | THOMAS | W.
BIDLAKE | GEOFFREY | MICHAEL
BIER | ELIYAHU
BISSONNETTE | ROBERT | DANIEL
BJERKREIM | HILDE
BLACK | DAVID | JAMES
BLACKBURN | CHARLES | PETER
BLACKMORE | SCOTT | ALBERT CULLEN
BLAIR | RICHARD | WAYNE
BLAKE | ANDREW | S.
BLANES SERVERA | RAFAEL | JUAN
BLATT | MARK | FRANCIS
BLITZ | ALLISON | ELIZABETH
BODNER | ELIZABETH | ANNE
BODVIN | DALE | CLAYTON
BOECKL | CHRISTINE | IRENE
BOERNER | ZACHARIAH | ALAN
BOERNER | ALAN | DOUGLAS
BOHMRICH | JONATHAN | BRENT
BOIS | WILLIAM | ANTHONY
BOISON | SABINE
BOLLIGER | ANTON | DAVID
BOMMI | GOVIND
BONFANTI | PIERO | FRANCESCO
BONFIELD | PETER | WILLIAM
BONIFACE | THOMAS | M.
BONNETT | JULIAN | CHARLES SPENCER
BONNETTA | JOSHUA | J.
BOON | ADRIAN | STEPHAN
BOOTE | JEREMY | RICHARD MONCKTON
BOOTHMAN | DONNA | CLAIRE
BOS | THERESA | ELIZABETH
BOUJON | PHILLIPPE
BOULVEN | JACQUES
BOVE | ERIKA
BOWTELL | CLAIRE | ELIZABETH
BOZARTH | BRENNA | ELIZABETH
BRACHER | SYDNEY | JAMIE LEE
BRAD | SUSAN | HOPE
BRADY | MAIRTIN
BRANDLE | ANNE | MARIE
BRANDLEY | JOSHUA | BRIAN
BRANNINGAN | LANCE | K.
BRASH | ALAN | DAVID
BRAUN | PHILIPP
BRAUN | DOERTHE
BRAUN | JESSICA | HELGA KARIN
BRAUN-MUNZINGER | KAREN | ANNA CLARA
BREMER | PAMELA | KAY
BRENT | JOHN | PATRICK
BRINK | PONE | VAN DEN
BROMLEY | STEPHEN | O.
BROOKMAN | OLIVIA
BROWN | LINDA | K.
BRYANT | ANDREW
BUCKBOROUGH | WILLIAM | CLAYTON
BUELER | IRENE | M.
BUI | LOI | T.
BUITENHUIS | PENELOPE
BUNNEY | GARY | LEE
BURDETT | LORELEI | NICOLE
BURGESS | SITA | ELEXA
BURNS | DAMON | WAUGH
BURROWS | CLAIRE | ALANNA ANNELISE
BURTON | TIMOTHY | MICHAEL
BURY | AUGUSTUS | SERGEI KEPPEL
CADEO | CHRISTIAN | HENRY
CADEO | CRYSTAL | BROOKE
CAHUZAC | STEPHANIE | JANE
CALABI | ANNA
CALABI | CLOTILDE
CALABRESE | ANNE
CALDWELL | SHELBY | MARGUERITE SEWELL
CAMPBELL | CAROLINE | SARAH
CARACCIO | PAULA | CAMILLE
CARACO | ANDRE | ROBERT
CARLSON | REBECCA | MARIE
CARMEL | TAMIR
CARNEY | ERIC | CHRISTOPHER
CARNEY | CAROLINE | ABIGAIL
CARON | DARLEEN | MARIE
CARR | KANIKA | SKYE
CARRERA | STEFANIE | CHRISTINE
CASSELS | TRACY | GARDINER
CEDRASCHI | RICCARDA | ANDREA
CESARCO | ALEJANDRO
CHAI | ALI
CHANDLER | HENRY | LLOYD
CHANDLER | PAULA | LYNNE
CHANG | SZU | HAN
CHANG | ALBERT | YUN-PAI
CHANG | TSZ | KWAN JOYCE
CHAPMAN | KRISTIAN | AMANDA NICOLE
CHAPMAN | IAN | GRAF
CHAPMAN | ELIZABETH | GENEVIEVE
CHAPPELL | REBECCA | ELIZABETH
CHARPENTIER | RENEE | MICHELLE
CHEN | HAN
CHEN | XI
CHEN | YING | HUI
CHEN | KEVIN
CHENG | VIVIEN
CHENG | SHERON | YIN-BIN
CHENG | JOCELYN | LU-TIN
CHILCOTT | RHIAN | F.
CHINSKI | MALENA
CHIU | CHI | CHENG
CHIU | ANITA | CHEE WEI
CHOI | YVONNE | MYUNG
CHONG | BAOQING
CHOO | BRIAN | WINSTON
CHORENY | JASMIN | AMINA
CHOU | KEVIN
CHOUDHURY | MAHFUZ | HUSSAIN
CHOW | PETER | VAI-CIEW
CHRISTEN | TERESA | MICHELLE
CHRUSZCZ | WIKTOR | MICHAL
CHU | NANCY | YUK YU
CHU | HIU | YAN FIONA
CHUN | NICOLE | HAHYUN
CIRKEL | ANNEMARIE
CLARK | ANDREW | EVAN
CLARK | MATHILDE | LOUISE
CLARKE-HUNDLEY | MARY | DENISE
CLEEK | KERSTIN
CLELAND | JAMES | MICHAEL
CLELLAND | EMILY | ELIZABETH
CLIFFE | AUSTIN | CHARLTON
CLOER | DIANA | LYNN
CLOYD | MATTHEW | SCOTT
COBBETT | JESSICA | A.
COCHRAN | KENNETH | DOUGLAS
COCKSHUTT | FRANKLIN | LORNE ASHTON
COHEN | MELISSA | REBECCA
COHEN-GOTTESFELD | HILDA
COLDSTREAM | ELIZABETH | H.
COLES | GABRIELLE | GRACE
COLIN | ARNAUD | FRANCOIS MARIA
COLL | KEVIN | LEE
COLLINS | ALEXANDER | FISKE
COLOMBO | MANUELA
COMES | LANCE | MICHAEL
CONDON | JACK | DANIEL
COOK | GUADALUPE
COPLEY | DAVID | MARTIN
COPLEY | SHEILA | PURDY
CORBETT | AMY | ELIZABETH
CORDON | ALFREDO
CORNELIO | DAWN | MARIE
COTTER | CECILY | MARY
COTTLE | GILES | FREDERICK WILLIAM
COX | BRENTON | JEFFREY
CREAN | JUSTINE
CREETH | JANET | ELIZABETH
CRICK | ROSEMARY | ANN
CRISP | IAN | R.
CROPP | DARCY | GRACEN
CROTTY | OWEN | PATRICK
CROWE | CAROLE | JEANNE
CRUZ | RUI
CUEVAS | RAISA | CHAVEZ
CULLEN BERNARD | LAUREN | ROSE
CUMING | WILLIAM | ALEXANDER
CUNNINGHAM | DEBORAH | RUTH
CURTIS | JALA | SHARI
DA CRUZ | VALQUIRIA | C.
DAHAN | LARA | MOHAMMAD
DAHLBERG | NATASHA | JEAN
DAJANI | ZEMAR | MOHAMED
D'ANGELO | ERICA
DANI | RISHI
DARBY | DANIEL | ROBERT
DARPHIN | ARTEMIS
DARWISH | MOHAMED | M.
DAUGHERTY | CHAD | PATRICK
D'AURIA | ELLEN | MARY
DAVIES | NAOMI | LOUISE
DAVIES | NANCY | CAROLINE
DAVIES | ROSEMARY | MARGARET
DAWDY-DEBLOIS | TRACEY | JOY
DAY | JACQUELINE | MARIE
DE CALAZANS CHEVARRIA | GUILHERME
DE CARBONNEL | MATTHIEU | FRANCOIS XAVIER
DE CASTRO PRADO | FERNANDO | C.
DE CHASTONAY | JOSE | P.
DE FOIARD BROWN | ANNE | MARIE
DE HAAN | RENSKE | CHRISTINA
DE LA PLAZA | MIGUEL
DE NASSAU | CHARLOTTE | KATHERINE JUSTINE MARIE
DE SANCTIS | GIULIA | ELIZABETH
DE STOPPELAAR | JOYCE | MARINA
DE VUYST | GERD
DEAM | DONNA | A.
DEDO | DAVID | J.
DELAHAIJ | ERIC | JOHN
DELVALLE | PAMELA | SUE
DENIKE | VALERIE | MAY
DESCHNER | VICKI | MARIE
DESMOND | JOY | CHRISTINE
DETHARDING | LISA | ANN
DEY | AVIK
DEY | FARNOUSH
DILBERT | ALEX | OBRIAN
DILLEY | LAUREN | BETH
DION | GEORGETTE | GAGNON
DIXON | RICHARD | THOMAS
DOETSCH | FIONA | K.
DOMENGHINO | BONNIE | SUE
DOS SANTOS | RENATA
DOSHIRO | YASUO
DOSHIRO | YUKI
DOUCET | NISA | A.
DOUGHERTY | JANINE | CLAIRE
DOUGHERTY JR | LAWRENCE | EDWARD
DOUMA | HUBB
DOWNING | PAUL
DOWNS | ALLEN | R.
DOWNS | JUDITH | R.
DOYLE | CAROLINE | ANNIE
DRAGER JR | HARALD
D'ROSE | TRACEY | LEE
D'ROSE | CARL | ROSS
DUBOIS | MAIKEN | ULRIKE
DUCHAMP | CEDRIC | BERNARD
DUHE | SHERRY | LEIGH
DUNCAN | JON | B.
DUPREE | LINDA | MARIA CHRISTINE
DUTHOIT | ADRIEN | HILAIRE
EARLE | GINEVRA | FRANCES
EBERLE | TANYA | DENISE YOLANDA
EBMEIER | MARGARET | MARY
ECKERBLAD | ROBIN
EDGEWORTH | JACI | SUE
EFFENDI | BOBBY
EFTHIVOULIS | CHRISTOS
ELLS | KATIE | AMANDA
ELRICK | PIERRE | DAVID
ELURI | VIJAYA
EMBRA | ANN | CHRISTINE
EMRY | MARY | ANNE PATRICIA
ENGELS | KARL | G.
EPPINGER | ANTJE | CAROLINE
EPPLEN | ANDREA | LOTTE HILDEGARD
ERICKSON | WERNER
ERICKSON | PATRICIA
ESCOBAR | LUIS | ALBERTO
ESPOSITO | STEPHANIE
ESTAMPES | JEROME
EVERETT | MARIE | M.
EVERINGHAM | JENNIFER | LESLEY
EYSELL | JOANNE | MANSFIELD
FABAC | KAREN
FABAC | NICK
FABER | GABRIELE
FABER | ROLAND
FAGIN | IRA | ALAN
FAITHFULL | CELESTE
FALIC | LEON | S.
FARA | ROBERTO | GERMAN
FARMER | JUNE | S.
FASNACHT | SARAH | CECILE
FECHEROLE | DAVID | A.
FEENEY | PATRICK | ANDRE
FEINER | ZELIG
FENTER | FREDERICK | FRANK
FIELDING | THOMAS | HAROLD
FISCHBACH | STEFAN | WOLFGANG
FISCHER | MARCEL
FIXSEN | ROY | MICHAEL
FLANNERY | DIANNA | GRACE
FLINSTAD | HELENE | KRISTIN
FLINT | NICK
FOGAL | MICHAEL | STEPHEN
FORD | MATTHEW | MICHAEL
FORMAN | STEPHEN | C.
FOWLER | AUTUMN | VICTORIA
FOX | PAUL | EDWARD
FRASER | SUSAN | ELSPETH
FRAZER WHYTE | CAROLYN | FAITH
FREESTONE | PRUE | CECILIA
FREIDIN-GOSS | ALEXANDER | NF.
FREY-NOWLIS | MARIE-PAULE
FRIED | SULEM
FRIEDRICH | DIETMAR
FRIESEN | VENESSA | SUZANNE
FRISCHKNECHT | OLIVER
FROHLICH | HANS | EUGENE
FUELLBRANDT | JEREMY | JOHN
FUJIMURA | NOBUTAKE
FUKUYAMA | MIEKO
FULLER | EMMA | L.
GAI | EDGARDA
GALVEZ | TANIA
GAMMON | JESSICA | RAE
GANDARIAS FERREIRO | KAULDI
GARCIA GATTO | JORGE | D.
GAROZ NEIRA | JAVIER
GATH | MIRIAM | LUCY
GEBERBAUER | JAN | WILLEM TAUBIN
GEHRLING | ROSEMARIE
GEIGER | NATHANIEL | GEORGE
GEORGE | GARY | ALAN
GEORGE | JULIA | LOUISE
GEORIS | RONALD | ROBERT
GERSBACH-FORRER | MONICA
GHANIPOUR | MOJGAN
GIBBARD | ROBYN | A.
GIBERSON | MARIAH | LAUREN TAYLOR
GILBERG | GREGERS | MILLER
GILBOA | ADY | FEINER
GIORGINI | WILLIAM
GLASSER | ADRIAN
GLOECKNER | JULIUS | P.
GO | ERIC | SANG
GODDEN | RICHARD | L.
GODZICK | EDWARD | ALBERT
GOLDEN | JEROME | LEONARD
GOMEZ | CRISTINA | NIETO
GOMEZ | JOSEFA | REBOLLO
GONCALO | CHRISTOPHER
GOOD | DANIEL | ERICK
GOODMAN | PETER | MARTIN
GOPE | MONICA | MARY
GORSKI | MARTIN | MATTHEW
GOTTESFELD | ZIV
GOULD | VICTORIA | ANNE
GRABBE | HEATHER | MARY CLAIRE
GRANDHOMME | LAURENT | MICHEL
GRANT | THOMAS
GRANT | JEFFREY | SCOTT
GRANT | REBECCA | LANCE
GRAU | THEODORE
GREEN | CHARLES | LYNN
GREENE | WILLIAM | FREDERICK
GREGORY | BRIAN | PERCY
GREGORY | NATASHA | CHRISTINA
GREIS | MARY | JANE
GRIFFITHS | ELIZABETH | ANN
GRIFFITHS | NAOMI | GENEVIEVE
GRIGGS | ANDREA | LEE
GROOSMAN | NELE | HANNELORE
GROSS | MADELINE
GROSSE-WILDE | ANNE
GROVES | KELDA | JANE
GRUISSEM | SOPHIA | MARCIA
GUERRINI | HANNA | MARIE
GUESSOW | JENS | U.
GUESSOW | CAROLIN
GUIDI | JESSICA | RACHEL
GUIRAUD | KIM | FRANCOISE C.
GUPTA | ANSHU
HA | DAE | KUN
HABEL | CLARA | I.
HACKER | LEORA | SUSAN
HAGEN | DENISE | PAIRRY
HAHN | SCOTT | WALTER
HAHN | PASCAL
HAHN | KARA | LINDSEY
HAJJAR | SARKIS | PIERRE
HALL | LEILAH | JANINE
HALPER | OLIVIA | JUSTINE
HALSALL | DAVID | JOSEPH
HAN | MINGIN
HANDY | MARK | R.
HARALDSEID | KARL | MARKUS
HARDING | RYAN | A.
HARDING | STEPHEN | WILLIAM
HARDS | JEREMY | THOMAS
HARDY | THOMAS | LUKE RIMINGTON
HARLEMAN | EDEN | JOHANNES FREDERIK
HARRIS | SUSANNA | LAURENE
HARRIS | SARAH | JOURNEAUX
HARRISON | FIONA | JENNIFER CLAIRE
HARTLEY PARISON | MELANIE | H.
HARTWIG | CAROL | L.
HARZ | LINDA
HASKEL | JONATHAN | EDWARD
HASOVIC-SIJERCIC | ANISA
HASSE | PAULINE | ADELE
HASSELL-THEAN | ESME
HAUSER | ARIANA | VICTORIA
HAY | ISAAC | STORRIER
HAY | SHANNA | MEI
HAYES | MICHAEL | THOMAS
HEIDT | LENA | FRANCIS
HEINS | VIVIANE | CADIEUX
HENLEY | PENELOPE | MARIE
HERNANDEZ DUCRET | KARINE | JENNY MIREILLE
HERNANDEZ SILEN | RAFAEL
HERSOV | SAVANNAH | R.
HEYLER | DANIEL | ANDREW
HIBBERD | ROBIN | FLEMING
HICKEY | DENIS
HIGA | KAZUAKI
HIGGINSON | SALLY | KIRSTEN
HILL | MEGAN | TEAL
HIND | STEVEN | R.
HISA | AKIKO
HO | HSIN | JUNG
HOANG | THI | HONG NHUNG
HOBBEL | MICHAEL | JACK
HOD | LIAT
HOEHLER | DIANA | ELISABETH
HOFER | NICOLAS | D.
HOHL | MARKUS | A.
HOHN | MICHAEL | JOHANNES
HOLDEN | KATHRYN | ARMUT
HOLMSTEAD | JULIE | MARIE
HOPE | CLAUDIA | MARGARET
HOPE | JAY | RODERICK
HOPKINS | JOHN | CABELL LIVINGSTON
HOPKINS | CYNTHIA | CHEW
HOPKINS | JAMES | ALAN
HOPSON | ERIC | AMADEUS
HORIKOSHI | NOBUO
HORIO-SCHELD | YUKO
HORN | ELLEN | KARINA
HORNER | HEATHER | V.
HORNER | BRUCE | J.
HOWER | KATLA | DAWSON
HOWES | NAOMI | S.
HRYNIUK | JACKSEN | P.
HRYNIUK | GRACEN | B.
HSU | RICHARD | NIMITJAROON
HSU | ANGELA
HUANG | YANG
HUDSON | JAMES | BRADFORD
HUDSON | MICHELLE | CAROLE
HUENS | GEOFFROY | ANDRE MARGARETH
HUGHES | BARBARA | S.
HUGHES | BENJAMIN | MAXWELL
HUGHES | TONE | TELLEFSEN
HUGHES | JENNIFER | ANN
HUNDLEY | ABIGAIL | MAAHS
HUNDLEY | PAUL | FREDERIC
HUNG | ANGELA | ON KAY
HUNT | JONATHAN | DOUGLAS FLETCHER
HURD | KELLE | DORIS
HUSTED | THOMAS | KRISTIAN
ICHIKAWA | YUMIKO
IMANISHI | TOMOKO
INAUEN | LUZIA
INGAMELLS | GARY | ALLAN
INTRALIGI | PHILIPPE
ISA | YUKO
ISHIHARA | SIAN
ISKANDER | LESLIE | SUSAN
ITO | HIROSHI
JACOBS | MICHAEL
JACOBSEN | STEFANIE | ANN
JACOBSON | PAUL | JARED
JACQUEMIN | FREDERIC
JAIME | DANIEL | LUCAS
JAKLIN | TINA | MARIE
JEHSERT | TORSTEN
JENKINS | MELISSA | ANDERSON
JENKINS | ISOBEL | MARY
JENKINS | ANNE | LAURA
JENNINGS | LACHLAN | SINCLAIR
JENNINGS | BURNS | JOSEPH
JENSEN | NIELS | VICTOR DUE
JENSEN | LAWRENCE | CRAIG WINSTON
JENSEN | CYNTHIA | GRAHAM
JENSEN | CHRISTINA | B.
JENSEN | LARS | TUBORG
JESIN | ESTELLE | SHARON
JEUKEN | JONATHAN | BRIDGLEE
JIANGLEI | YU
JIE | SUN
JOHANSEN | KIRSTEN | T.
JOHNSON | SUSAN | MARIE
JOHNSON | ABRAHAM | LUKE
JOHNSTON | ALICE | ISOLDE
JONES | EMILY | ELIZABETH REECE
JONES | CATHERINE | JULIE
JONGERIUS | JOHN | RONALD
JOO | SANGDON
JORDAN | KAREN | E.
JOSE | PAUL | EASTON
JOSEPH | TANJA
JOST | IRMINTRAUD | MARIA
JOUNG | ZUN | SOOK
JUDZEWITSCH | ANDREI
JUMPER | DAVID | BRUCE
JUNDT | LUKAS | S.
KAADA | LINDA | BETH
KALDAS | INES | MUSIOL
KALIN | JANICE
KAMERLING-DE BRUNE | ELIZABETH
KAMINSKI | MARC | SIMON ADAM
KAMITANI | MASASHI
KANG | HYEJI
KANWAR | JAIKARAN | O.S.
KAO | DANIEL
KARIM | ZAYNAB
KATTENBERG | GYSBERT | JORIS JOB
KAWASH | GEORGE | FREDERICK
KEIGHTLEY | JACLYN | MAY
KEIL | DANIEL | CHARLES
KELLER | THOMAS | MATTHEW
KELLER | PETER | THOMAS
KELLY | JORDAN | ROBERT
KENNEDY | JASON | ALLEN
KERR | GRACE | OLIVIA
KERR | DANIEL | GREGORY
KERR | JOHN | MAXWELL
KERVYN | DAVID | OLIVER
KESSLER | ANTHONY | EMIL
KESSLER | ANTHONY | ELIAS
KETTGEN-HAHN | ANJA-KATHARINA
KHOURI | SUHA | S.
KHOURY | TAMARA | RAJAI
KIM | YONG | SUK
KIM | JONG | SOOK
KING | CAROLYN | GENEVIEVE
KIRUVASE | LINGARAJU
KISTLER | CHRISTOPH
KJAER | ARIEL | HO
KJALLSTROM | BRITA
KJESBU | EINAR | EDVIN
KLIPPEL | ALEXANDER | KLAUS ALBERT JULIUS
KLUIVERS | KIRSTEN | BIRGIT
KNOLL | LIESL | MARIE
KNOLL | JONATHAN | PAUL
KOENEN | KARL | THOMAS
KOENIG | TRISTAN | J.
KOHLER | LARRY | ROBERT
KOLT | GALI | SHMUEL
KOMACHI | NORIYO
KONDO | JUNKO
KONOPIK | EVELYN | A.
KORCOK | NATHAN | JOHN
KORNHABER | BARRY | RAPHAEL
KOTHARI | JASON | ASHOK
KOTYK | SYLVIE | ANNA
KOTZE | LULAMA | MARIA
KOZAKI | SACHIKO
KRAPF | DREW | EDWARD
KRAUS | ANNA | KARIN EVELYN
KUETEMEIER | EDELTRAUD | E.
KUHARSKI | CHRISTOPHER
KUHN | BENJAMIN | DAVID
KUHN | JEREMY | NOAH
KUHN | LYNN | RACHAEL FRYDMAN
KUMMELSTEDT | ALEXANDER | MATS
KUPER | JENNY | RIVA
KURIYA | YASUMI
KVEIM | MARIUS | OLIVER WILBERG
KVEIM | MARTINE | MARIE WILBERG
LA FRANCE | LISA | MARIE
LAKE | RICHARD | W.
LAMB | ELIZABETH | CHARLOTTE
LANDIS | RIPPMAN | CHARLES
LANGENEGGER | MICHELLE | JENNIFER
LANGENEGGER | SEAN | MICHAEL
LARSEN | CATHERINE | ANNE
LE MOIGN | VINCENT | E.
LE POIDEVIN | ANNA
LEE | SIU | HUNG
LEE | YOOMI
LEE | HYUN | CHUL
LEE | XUAN | ZHI HILBERT
LEGARE | GILLES
LEMON | MICHAEL | JOHN
LENNON | TOBIAS | JOHN
LESTER | HENRY | JAMES WOOLEY
LEUBE | KIRSTEN | ANJA
LEUVER | PAULUS | CAROLUS CORNELIS
LEVAK | ROBERT | J.
LEWIS | MEMORIA | FLORENCE RICHENDA MAY
LEWIS | JENNIFER | JANE
LEWIS | STEPHANIE | MARIA
LI | XENA | X.
LI | BARN | YEN
LI | ROSHANNA | ERICA
LIANG | XIAORAN
LIEBERATH | FREDERIK
LIEBERHERR-BIERI | ESTHER | FRANZISKA
LIM | ALESSANDRA | KAI MING
LIN | EDWARD | CHEN-CHUN
LINN | STEFAN | C.
LINTON | ADAM | J.
LIU | HESHENG
LIVNAT | NOA
LIZALDE | CAROLYN | J.
LLINAS | JOSHUA | MICHAEL
LO | VICTOR | YU
LOBATTO | MARK | ERIC
LOEWE | INGE | MARTHA
LOMASCOLO | ALMA
LOMASCOLO | MARIA | GIOVANNA
LONCASTY | DAVID | WILLIAM
LONG | CHRISTIE | NICHOLSON
LONGEM | JORGEN | M.
LOPEZ | MACHIKO
LOUCKS | KAYOKO
LOVSETH | STIAN
LOWRY | LUCY | DIANA
MACAULAY | CATHERINE | REBECCA
MACAULAY | MARY | CATRIONA
MACDERMOTT | THOMAS | FRANCIS
MACDONALD | RUTH | LEA
MACHELL | BENJAMIN | R.
MACKINNON | SUSAN | GAIL
MACLARKEY | ROBERT | LAWRENCE
MAESEN | ANN | KRISTINE
MAGIE | JAMES | ROSS
MAGILL | SEAN | COLE
MAGLIANA | MELISSA | ANN
MAHE | ISABEL | GE
MAISHMENT | CRAIG | RICHARD
MANCINI | FRANCESCO | A.
MANGALJI | ALYSHIA | JEHAN
MANN | LUCY | EMMA
MANN | ADAM | ELLIOT
MARCH | SUSAN | ELIZABETH
MARFURT | JULIAN
MARQUEZ | KATHERINE | GAIL
MARRIOTT | KATRINA | BARBARA
MARSDEN | RICHARD | NEIL
MARTIN | CURTIS | LEE
MASIS | VALERIE | N.
MASON | EMILY | GEORGIA
MASSIMO | RUDOLFO | WILLIAM
MATHIEU | ERIC | JACQUES
MATHISON | KELSEY
MATHISON | KATLIN
MATTERN | THOMAS | MICHAEL
MCGILL | ANGELA | KATHRYN
MCCAGHREN-POWELL | JEANIE | RENEE
MCCAHILL | JENNIFER | LEIGH
MCDERMOTT | ALISON
MCDONNELL | KATHLEEN | ELIZABETH
MCGLAUN | MAXIMILIAN | DENIS
MCGRATH | ADRIANE | T.
MCKINNON | PETER | DOYLE
MCLAY | DENIS | JAMES
MCMILLAN | LOUISE | FASTIER
MCNAMEE | KERRY | BRIANA
MEGA | IAN | PAUL
MEISSNER | ALEX
MELNYK | OLIVIA | FRANCES
MENDELOWITZ | CINDY
MENTON | QUINN | INWOOD
MERMET | SEBASTIEN
MESSERLI | AIYANA | LITONYA
METCALFE | SIMON | J.
METCALFE | SANDRA | J.
METTI | KIARA | DENESE
MEZENTSEVA | KSENIA | A.
MICHEL | ABECASSIS
MIKHALEVA | MARGARITA | A.
MILARAS | JAMES | ALEXANDER
MILLER | MICHAEL | R.
MILLER | JANE | DAY
MILLER | DONALD | HANSEN
MILLS | BRITT | KLARA
MILLS | CHRISTOPHER | DE AMICIS
MINEO | NANCY
MING CHANG | TIMOTHY | TING
MITFORD-TAYLOR | GEOFFREY
MITRY | TIMOTHY | ANDREW
MITSUI | YOSHIMITSU
MIYATA | MISAKO
MOEBES | MONICA
MOEDINGER | ANDREW | WARD
MOEMKEN | HANNA | MARIA
MOGI | ALEXANDER | JUNICHI
MOHAMEDALLY | AMINA | BIBI
MORENO | ALEXANDER | MANUEL HENRI
MORENO RIOS | MARIA | LUZ
MORGAN | ANDREW | CRAIG
MORGAN | ANDREW
MORRISON | COREEN | MICHELLE
MOSER | JOANNA | BRIONY
MOYERS | ALYCIA | MARIE
MUELLER-BROWN | MICHELE | DENISE ELVIRA MARIA
MULDER | RICHARD
MUNDY | SUSAN | ANN
MURATA | RIKA
MURDIN | BENEDICT | NEIL
MURDOCH | ANNA | LOUISE
MURPHY | ROBYN
MURRAY | CAITLIN | GRACE HEWITT
MURSET | SERGE | P.
MUTKE | MATTHIAS | ANTHONY
NAHILL | ARTHUR | JAMES
NAKAMURA | ASAMI
NAKAMURA | TATSUO
NASRALLAH | WASSIM | ELIAS
NATHAN | MARK | PETER
NAVARRO | JAVIER
NAVE | MIRIAM | RINA
NAZARALI | JENNA | A.
NEHREN | DANIEL
NEPPELENBROEK | INGRID | H.
NERSINGER | REBECCA
NEU | HAROLD
NEUENSCHWANDER SCHENKEL | URSULA | NELLY
NEYSADURAI | ANURA
NG | NATASHA
NGUYEN | DO | T.
NIMITJAROON HSU | JASON | GARUNE
NISHI | MARIKO
NOLET | MICHIEL | CHRISTIAAN
NORRIS | CHRISTOPHER | LLOYD
NORRIS | BENJAMIN | CHARLES
NOVAK | TRAVIS | MICHAEL
NOYER | AURELIEN | LOUIS JEAN
NUBOER | SANDER | MAARTEN MICHIEL
NUOLIKOSKI | ARTTU | RIKU JOONATAN
OBERG II | FORREST | HASTINGS
OBERMAYER | HENDRIK | K.
O'BRIEN | WILLIAM
OBRONT | SARAH | HART
OBST | SARAH | ELIZABETH
O'CONNOR | DANIELLE | CLARE
O'CONNOR | JOHN | PATRICK
O'CONNOR | RACHEL | UNA
O'CONNOR | DIANE | MARIE
ODAGIRI | MIYAKO
O'DONNELL | DANIEL | THOMAS
ODWYER | COLMAN | P.
OELKERS | ANNA | MARIA
OGILVY | JENNIFER | ELIZABETH
OHATA | BRENT | RYAN
OHYAMA | MIEKO
OHYAMA | KOHJI
OIEN | JAMES | CASPER
OKE | SUSAN | BRUNNCKOW
OLMERT | SUSAN
OLSSON | ARTHUR | ERIK
OMIYA | YUKA
O'NEILL | KEVIN | M.
O'NEILL | SUSAN | LEE
ONG | MATTHEW | THOMAS
ONG | MICHELLE | M.
OPIE | LYNN | MARIE
O'REILLY | SHANE | MICHAEL JAMES
OROURKE | CHRISTOPHER | LAWRENCE ALVORD
OTOKAWA | YURI
OTSUKI | YUKIKO
O'TUAMA | BRIAN
OWENS | WENDY | ELAINE
OZCELIKAY | SINAN
OZCELIKAY | DENIZ | DOLAR
PAINVIN | ARTHUR | H.
PALERMO-CARENINI | SUZANNE | MARIE
PALLEN | CATHERINE | JANE
PAPADOPOULOS | HARILAOS
PARK | JANG | S.
PARKER | ALICE | CATHERINE
PARKER | JACKSON | DANIEL BONNER
PARKIN | EILEEN | M.
PARRY | JAMES | D.
PARRY | CHARLOTTE | F.
PARSY | MARIE | MALVINA
PATEL | ANAND | K.
PATTESON | HERMINA | M.
PAUKNER | OLIVIA
PAULSON | BRIAN | JAY
PAVIA | CLAIRE | AUDREY
PAYNE | CHARLOTTE | ELIZABETH
PEKARSKY | ELLA | BESS
PENNY | VIRGINIA | RITA
PERKINS | ROGER | J.
PERRY | NOEL | CHRISTOPHER RODERICK
PESICKA | NATASHA | K.
PETERS | AMY | JANE
PFLEGER | ROSALIE | S.
PHIPPS | MOLLY | ANNE
PICKERING | CAROL | JOAN
PIEPER | MICHAEL | JOHN
PINOL ROMA | SERAFIN
PINTER | GABRIELLA
PISIO | ANN | LEE
PITTOLO | LUCY | KATE
PLATE | GERLINDE | MARIA
POLLARD | JONATHAN | M.
PONTON | SHEILA | MOCK
POOLE | JOHN | ADAM EVERETT
PRADA HERRERA | DIEGO | FERNANDO
PRATSINIS | ANTONIA | M.
PRESTI | CRAIG
PRICHARD | ANTONIA | GEMMA
PRITCHARD | LAURIE | SUZANNE
PRIVITERA | CARLO
PROST | LEONARD | DAVID
PROST | ARLEEN | BARBARA
PUCHER | CATHERINE | ELISABETH
PUGLIESE | LINA
PULLEN | MARISSA | CLAIRE
PURSEHOUSE | JEANNE | MARIE
QUERCI | NICCOLO
RAAB | MARCEL | CHRISTOPH
RAMIREZ GALEANO | MARIA | CRISTINA
RANDALL | TRACEY
RANDALL | JAN | DANIEL
RASWORK | EZANA
RAWJI | SHAHEDA | M.
RAWJI | MOHAMED | ABBAS R.
RAWSTRON | AMANDA | ROBERTA
RAYMOND | TRACEY | LEA
REBULLA | ELENA
REDHEAD | ANTHONY | D.
REGO | RICARDO | D.
REGTUIT | WESLEY
REICHNER RUBINSTEIN | RENEE
REID | KIRA
RESMINI | ENRICO | GRAZIANO
REVERCHON | LINDA | HILL
REVILLE | CHRISTOPHER | PAUL
RHYNE | HAILEY | MIDGLEY
RHYNE-SLIJKERMAN | CHELSEA | MIDGLEY
RICHARDS | CAROL | ANN
RIGHTMIRE | LINDA | MARIE
RIJKENS | CLAIRE | ANNA
RIMERMAN | DEBORAH | JEANNETTE
RISHANI | MAKRAM
RIVOLDI | EDUARDO
RIZNER | FREDERICK | LEE
RIZNER | SARAH | EMILY
ROACH | MARK | JOHN
ROBB | EMMA | SUSANNAH
ROBERTS | MICHELLE | NAOMI
ROBINSON | JOHN | FREDERICK
ROBINSON | DENNIS | HERBRT
ROBINSON | SANDRA | MAY
ROEBEN SCHAUBER | HEIDI | R.
ROGERS | CAROLINE | GRACE
ROGERS | EMILY | ANNE
ROGERS | LAURA | JANE
ROGERS | MARIELLA | J.
ROHDE | MALENA | E.
ROJO | CINTIA | PUJOL
ROLLAND | GRAHAM | J.
RONAGHAN | FELICITY | ANNE
ROOTLIEB | MARGARETHA
ROSE | GEOFFREY | FRANK
ROSE | CHRISTOPHER | A.
ROSENGARTEN JENSEN | JACOB
ROSENMAI | PETER
ROSENPLANTER | BJORN
ROSENTHAL | DON
ROSS | RUTH | ESTHER
ROUKEMA | RYAN | JOHN
ROURKE | KAREN | P.
ROUSSELLE | STEFANIA | MARIA SUZANNE
ROW | DENNIS | GEORGE
ROW | JOAN | DORAN
ROYEA | JENNIFER | G.
RUEKER | PETER | JOHANNES
RUNDELS | CRAIG | WALTER
RUSCONI-CLERICI | VALERIA | CLAIRE
RUSSELL | JAMES | HUGH BRIAN
RUSSELL | GEORGINA | MERCEDES
RYAN | VANESSA | LEE
SAAGER | LEIF
SACKMAN | JEFFREY | HOWELL
SADEH | ITAI
SAEVELS | MARLEEN
SAGE-ELLIOTT | JESSICA | MARY
SAHADEVAN | SABRINA
SAKAI | MIHO
SALAMEH | TAREK
SALO | PEKKA | J.
SALTHOUSE | ANNE | MARIE
SALZMANN | SASKIA | CLAIRE
SAMJI | ADAM | R.
SANDER | NINA
SANDERS | ELEANOR | LOUISE
SANDHUR | KIERANDEEP | KAUR
SANDYS | CHERYL | RONNA
SANGSTER | SAMANTHA | TODD
SAPPA | VANESSA | CINZIA
SARGENT | PAIGE | JERI
SATO | YUMIKO
SAUSE | SARA | ANNE
SAVAGE | TARA | JANE
SAVIGNANO | CHRISTINE
SCACE | CHARLOTTE | DAWN-MARIE
SCAIFE | GEORGIA | ANNELISE
SCALES | NATHAN | K.
SCALES | ASAMI | S.
SCHACH | JACQUELINE | BUSATO
SCHADDE | SUSANNE | MATHILDE
SCHENKEL | ALDERT
SCHIMEK | NICHOLAS | M.
SCHINDLER | ELLEN | ULRIKE
SCHMIDLI | WILLIAM | M.
SCHMIDT | MARILENA | NENA
SCHMITT | DETLEF
SCHOCKEN | GIDON
SCHOLFIELD | WILLIAM | SEYMOUR
SCHREINER-LOCHER | ELISABETH | MARIA
SCHROETER | URSULA
SCHUBERT | SVEN
SCOTT | KRISTEN | ALEXANDRA
SEEGER | SVEN | BRYAN
SEEGER | MELANIE | ELAINE
SEILER | KARIN | OLIVIA
SEITZ | LINSAY | MARI
SELF | JENNA | ELIZABETH
SELLERS | PAUL | A.
SELLERS | ELIZABETH | A.
SENGUPTA | ATANU
SENIOR | CHAD
SERRA | ANDREA
SEWELL | RHONDA | LEA
SHAFRAN | JEFFREY | STEVEN
SHAMESS | CHARLES | J.
SHAN | HUIFENG
SHAPIRO | ALEXANDRA | HELEN ZOE
SHAUGHNESSY | AISLING | M.
SHEARER | FREDERIC | GEROGE
SHEMATEK | GENE | MARIE
SHEVENELL | SARA | JANE
SHIELDS | RICHARD | LAWRENCE
SHIGEMITSU | YUSUKE | ERIC
SHIH | WARREN | WEN-JOEL
SHORE | DAVID | A.
SHUTER | PAMELA | HOLT
SICRE | MARY-ALICE | F.
SIEGEL | CORINA | ISABELLA
SILBERSTEIN | EYAL
SILVERA | BARBARA
SIMMEN | JOHN
SIMMS | KARRELL | ALEXIS
SIMO | EDGAR | SERRA
SIMON | STEPHEN | DAVID
SIMON | JACINT
SIMPSON | MELANIE | ANN
SLATTON-BUELL | JOHANNA | ANN
SMALLCOMBE | DOMINIQUE
SMAR | MARY | CATHERINE
SMART | THOMAS | J.
SMITH | JOHN | PAUL
SMITH | ISOBEL | L.
SMITH | WILLIAM | RICHARD
SMITH | TANYA | MICHELLE
SMITH | GARY | TIMOTHY
SMOCK | TARA | JEAN
SMUTNA | RENATA
SNEAD | JENNIFER
SNOOK | KATHRYN | MARY
SOBRERO | LAURA | MARIAPIA
SOMERS | KAITLYN | MARY
SOMMERVILLE | JESSICA
SONNI | SEAN
SOOD | VIVEK
SORBY | SERISHA
SOSA | STEPHANIE | ANDREA
SOSOWER | JEFF | ELLIOT
SPARKS | COURTNEY | LYNN
SPECA | MICHAEL
SPIER | ROBBIE
SPILLETTE | CHRISTOPHER | GEORGE
SROMICKI | JERZY | JAN
STAEHLING | ANDREW | RYDER
STAFILOPATIS | ALEXANDER | THEMISTOCLES
STALEY | ROGER | WILLIAM
STANDISH | KIMBRA | LEANNE
STAPLETON | BETHANY | JERIE
STATHAM | DAVID | MICHAEL GRANT
STAUB | MORGAN | ELENA CECILE
STAUB | RAPHAEL | JOASCH
STEEMSON | JOHN | DURAND
STEIGER | GINA | GABRIELA MARGRITTA
STEINBERG | TRACY | A.
STEINBERG | FREDERIC | MORRIS
STEINER | ADAM | D.
STEINKE | NICOLE
STEPHENSON | RYAN | PRICE
STERN | EMILY | HARRIET
STERN | JONATHAN | P.
STEURNAGEL | AXEL | OLIVER
STEWART | CRAIG | J.
STEWART | CHRISTOPHER | ALAN
STIER | JAN | OLIVER HARALD
STIMMER | CHANTALE | L.
STOJANOVIC | STEPHANIE
STOUT | JULIE | CAMILLE
STRATAS | ANDREW | DANIEL
STRAW | ROBERT | FRED
STRICKLER | DYLAN | CHARLES
STRIEBEL | ERIK | QUINCY
STRINGER | STEPHEN | SCOTT
STUDER | MICHELLE | JESSICA
STUMP | JOACHIM | DANIEL
STURGESS | CONNIE | LYNN
STURZENEGGER | PHILLIP | HENRY THOMAS
STUYFZAND | JOHANNA
SUESS | REINER
SUGARMAN | BRUCE | CHARLES
SUMMERFIELD | ARTHUR
SUMMERHAYES | EMMA | TAYLOR
SUN | ZHANSHAN
SURTEES | CARA | DANIELLE
SUZUKI | KOHEI
SVERKO | PETER | J.
SZCZERBIAK | CHLOE | AMELIA
TABET | JENNIFER
TAGAWA | TOSHIKAZU
TAHZIB | BAHIYYIH | GLORIA
TAKASHIMA | JUNKO
TAKASHIMA | IZUMI
TAKEI | YOSHINAO
TAKENAKA | TORU
TAKENAKA | MINGKWAN
TAKESHIMA | MASAYUKI
TAKESHIMA | MIHO
TALWAR | VIKRAM
TALWAR | URVASHI
TALWAR | SIDDHARTHA
TAN | XIAOQING
TAN | DOUGLAS | CHUN-HAO
TANG | JIE | JANICE
TARANTINI | DAVID | LAWRENCE
TATARCHUK | DIANA | ALEKSANDROVNA
TATEMATSU | YOJI
TATSUMI | SACHIKO
TAYLOR | DAVID | THORNTON
TENCH | RICHARD
TEO | AI | SUEN
THIEL | GLENN | H.
THIEMANN | VIRGINIA | SUSAN
THIESSEN | TANNER | R.
THIESSEN | ELISABETH | SUSANNE WALTRAUD
THOMPSON | MELISSA
THOMPSON | PHILLIP | P.
THOMPSON | DIANE | HARRIET
THOMSON | BARBARA | JEAN
THURNAUER | MARITA | L.
TIBOLLI | VAN
TOIGO | SARAH | ELIZABTH
TOMPKINS | MIMI | E.
TOON | JONATHON | EDWIN WILFRED
TOPHAM | JAN | GODDARD
TOPOR | SHIMON
TOUGH | JAMES | B.
TOUMADJ | JOUBIN | AMIR HOSSAIN
TRABOULSY | ALAIN
TRAJKOVIC KARAMATA | JELENA
TRALAU-STEWART | CATHERINE | J.
TREADWELL | ANDREW | DOUGLAS
TREPP DUBS | JUDITH | ABBY
TRIBBLE-HUSI | ANJA | S.
TROOST | ANNETTE | IRIS
TROTTER | JAMES | MARION
TROTTIER | BRYAN | RICHARD
TROYON | MICHEL | FRANCIS
TRUMBLE | SUSAN | HEATHER PUTMAN
TRUSCOTT | GRAHAM | JOHN
TSAI | SHU | LING
TSANGRIDES | PERICLES | NICHOLAS
TSCHOPP BRODBECK | SIBYLLE | SALOME
TSE | HIU | YING
TSE | CEDRIC
TSIORIS | IONNIS | C.
TSUI | WAI TO
TUMIDAJEWICZ | KATARZYNA | A.
TURNER | WILLIAM | J.
TURNER | RACHEL | CLAIRE
TUTUIAN | ANNA | MARIA
UEDA | AKIKO
ULLMANN | JONAS | LOIS WILLI
ULMER | NOA | GEORGE
UNRUE | SHIZUKO | E.
URIARTE-TUERO | IGNACIO
UTTRIDGE | MATTHEW | NORTON
VAD | LISA | CHERYL
VAN DYNE | YUMI
VAN LOOKEREN | KAREL | O.
VAN MEEUWEN | EVELINE | HENRIETTE FREDERIQUE
VAN TRIGT | VICTORIA | R.
VAN WERSCH | THIJS | SAMUEL
VANDEWEGHE | PAUL | CHARLES J.
VAN-TIEL | LAUREL | LYNN
VARAKSIN COBEE | INES | ALINE
VARSANI | JYOTIKA | RAMESH
VARVARO | ROCCO | J.
VASCONCELOS | ANA | PAULA F.
VASCONCELOS | MARCELO | VIDAL
VELANDER | KATHRYN | ANN
VERDERI | FERDINANDO
VERME | ALBERTO | ARMANDO
VESELINOVIC | LISA | MAE
VEST | GARY | RICHARD
VISARIUS | THERESA | MARIE
VISCONTI | AMEDEA | SOPHIE LINA
VISSER | ANNA | FELICIA
VONTZ | MAUREEN
VOSS | CHRISTIANE
WACHENSCHWANZ | DONALD
WACKWITZ | MEREL | C.
WADE | MICHAEL | DOUGLAS
WADE ROBERTS | BARBARA | ANN
WADMAN | ANDREA | CONSTANCE
WALDNER | AMIR | YONA
WALDVOGEL | LARS
WALKER | ELIZABETH | JEAN MILNER
WALKER | GREGORY | WILLIAM
WALLACE | VIVIENNE | MAXINE
WALLACE | CHRISTOPHER | ALBERT
WALLEMACQ | ESTELLE | MARIE
WALLIS | LACHLAN | JAMES
WALTER | EMILY | ELIZABETH
WANG | MIN
WANG | MINZI
WAQAR | UNEZA
WARD | JOHANNA | ELIZABETH
WARD | MATTHEW | J.
WARNER | THOMAS | JOSEPH
WASSERMAN | LUKE | JOSHUA LEWARNE
WATANABE | TAICHIRO
WATANABE | NOBUHIRO
WATERHOUSE | STEVEN | RICHARD
WATTS | JOHN | MICHAEL
WEE | AILLEN | TRICIA C.
WEIBEL | CAMERON | CLARK
WEIH | DAVID | TURNER
WEILAND | KEITH | ALAN
WEINRICH | NORBERT | MARTIN
WELLINGTON | CAROLE | C.
WESSELS | DEAN | ANDREW
WESTER | MEGAN | ELISABETH
WESTLAND | STEVEN | H.
WESTNER | HANNAH | LAND
WHATLEY | RICHARD | JOHN
WHEELER | ROGER | ASH
WIDMER | DARIO | ROMAN
WIDMER | HANNA | BARBARA
WIDNEY | MARK | DANIEL
WIGGERS | THORSTEN | EDWARD
WILHELM | BARBARA | ELIZABETH
WILKS | PETER | ANDREW DAVID
WILLARD | TAMATOA | HAMAKUA A. L.
WILLARD | KA'IOLANI | ALEXANDREA LILOA
WILLEMSEN | RYALL | JAROD
WILLIMANN | URSULA | NORA
WILLING | JONAH
WILSON-YOUNG | IAN | HUNTER
WILTSHIRE-BUTLER | JANE
WINFIELD | JOSHUA | ANSEL SIDNEY
WISZ | ROBERT | MICHAEL
WITTENBERG | DANA | RACHAEL
WOLF | VALENTIN | ROBERT CORNELIUS
WOLFF | RAPHAEL | JACQUES
WOLFSTADT | ERIN | SARAH
WOLTERS | PIETER | H.
WONG | FEI
WONG | ROCKY | KAI KWOK
WONG | ROGER | CHI-HIM
WOO | EDWARD | SAMUEL
WOOD | KIP | BURTON
WOODHOUSE | LISA | ANNE
WOODS | SALLY | ELAINE
WORMALD | ALEXANDER | KILLALA
WOYNAR | SEBASTIEN | PROSPER
WRIGHT | JARRET | BRADLEY
XIANG | WENRUI
XU | XIAOJIN
YAGI | YUKIE
YAMADA | YUKIKO
YAN | CHRISTOPHER | KA KIN
YAU | TERENCE | KING
YIU | MEI | LING
YONEYA | RIMI
YONEYA | MASAMI
YONEYA | SUSUMU
YORULMAZER | TANJU
YOTOVA | BORISLAVA
YOUNG | VIRGINIA
YOUSSEF | DIANA
YOUSUF | RAFAY | M.
YOUSUF | SOHAIL | M.
YUEN | JONATHAN | WING-CHUN
YUEN | YUK | YIN
ZADOK | ARIEL | M.
ZANETTON | EMILIE
ZANNONI | SHAWN | PIERRE
ZARI | SHADY | TALAL
ZHAN | ZHENGYUN | JAMES
ZHANG | YONGXI
ZHAO | RUI
ZHU | JIA
ZHU | XUEPEI
ZIMMERMAN | LILY | G.
ZURCHER | JANET | G.
ZVERINA | KIRSTEN

Dated: April 21, 2025.
Kevin T. Hall,
Manager Team 1940, CSDC—Compliance Support, Development & Communications.

[FR Doc. 2025-07076 Filed 4-23-25; 8:45 am]

BILLING CODE 4830-01-P